DEPARTMENT OF HOMELAND SECURITY

Federal Emergency Management Agency

44 CFR Part 67

[Docket ID FEMA-2011-0002; Internal Agency Docket No. FEMA-B-1227]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 13, 2012.

ADDRESSES: The corresponding preliminary Flood Insurance Rate Map (FIRM) for the proposed BFEs for each community is available for inspection at the community's map repository. The respective addresses are listed in the table below.

You may submit comments, identified by Docket No. FEMA-B-1227, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Isabella County, Michigan (All Jurisdictions)
Blanchard Mill Pond | Entire shoreline | None | +912 | Township of Rolland.
Camelot Lake | Entire shoreline | None | +706 | Township of Chippewa.
Coldwater Lake | Entire shoreline within community | None | +866 | Township of Nottawa, Township of Sherman.
Halls Lake | Entire shoreline | None | +994 | Township of Broomfield.
Indian Lake | Entire shoreline | None | +886 | Township of Vernon.
Lake Manitonka | Entire shoreline within community (downstream of North Brinton Road) | None | +936 | Township of Sherman.
Lake Manitonka | Entire shoreline within community (upstream of North Brinton Road) | None | +941 | Township of Coldwater, Township of Sherman.
Lake Windaga | Entire shoreline within community | None | +924 | Township of Coldwater, Township of Sherman.
Lake of the Hills | Entire shoreline within community | None | +894 | Township of Nottawa, Township of Sherman.
Littlefield Lake | Entire shoreline | None | +911 | Township of Gilmore.
Scott Lake Drain | Entire shoreline within community | None | +892 | Saginaw Chippewa Tribe, Township of Nottawa.
Stevenson Lake | Entire shoreline | None | +850 | Township of Vernon.
Weidman Mill Pond | Entire shoreline within community | None | +887 | Saginaw Chippewa Tribe, Township of Nottawa, Township of Sherman.
Woodruff Lake | Entire shoreline within community | None | +913 | Township of Broomfield, Township of Deerfield.
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Saginaw Chippewa Tribe
Maps are available for inspection at the Office of the Tribal Clerk, Saginaw Chippewa Indian Tribe, 7070 East Broadway Street, Mount Pleasant, MI 48858.
Township of Broomfield
Maps are available for inspection at the Broomfield Township Hall, 2889 South Rolland Road, Remus, MI 49340.
Township of Chippewa
Maps are available for inspection at the Chippewa Township Hall, 11084 East Pickard Road, Mount Pleasant, MI 48858.
Township of Coldwater
Maps are available for inspection at 8328 West Beck Road, Lake, MI 48632.
Township of Deerfield
Maps are available for inspection at the Deerfield Township Hall, 3032 South Winn Road, Mount Pleasant, MI 48858.
Township of Gilmore
Maps are available for inspection at the Gilmore Township Hall, 1998 West Stevenson Lake Road, Farwell, MI 48622.
Township of Nottawa
Maps are available for inspection at the Nottawa Township Hall, 3024 West Weidman Road, Weidman, MI 48893.
Township of Rolland
Maps are available for inspection at 524 Cedar Street, Blanchard, MI 49310.
Township of Sherman
Maps are available for inspection at the Sherman Township Hall, 3550 North Rolland Road, Weidman, MI 48893.
Township of Vernon
Maps are available for inspection at the Vernon Township Hall, 10877 North Lincoln Road, Clare, MI 48617.
Washoe County, Nevada, and Incorporated Areas
211 Creek | Approximately 400 feet downstream of U.S. Route 395 | None | +5039 | City of Reno, Unincorporated Areas of Washoe County.
| Approximately 0.42 mile upstream of Union Pacific Railroad | None | +5513
6015 Creek | At the upstream side of the West Copperfield Creek confluence | None | +5166 | City of Reno.
| Approximately 1,500 feet upstream of the West Copperfield Creek confluence | None | +5252
6634 Creek | Approximately 1.11 miles downstream of Union Pacific Railroad | None | +5068 | City of Reno.
| Approximately 0.47 mile upstream of Union Pacific Railroad | None | +5473
Copperfield Creek | Approximately 1,600 feet downstream of the West Copperfield Creek confluence | None | +5040 | City of Reno, Unincorporated Areas of Washoe County.
| Approximately 0.92 mile upstream of U.S. Route 395 (southbound on-ramp) | None | +5295
Evans Creek | Approximately 1,700 feet upstream of Lakeside Drive | None | +4682 | City of Reno, Unincorporated Areas of Washoe County.
| Approximately 0.52 mile upstream of Evans Creek Drive | None | +5070
Fat Creek | Approximately 460 feet downstream of U.S. Route 395 | None | +5040 | City of Reno, Unincorporated Areas of Washoe County.
| Approximately 0.62 mile upstream of Frontage Road | None | +5086
Flat Creek | Approximately 975 feet downstream of the Flat Creek Split confluence | None | +5043 | City of Reno, Unincorporated Areas of Washoe County.
| Approximately 0.58 mile upstream of the Flat Creek Split confluence | None | +5177
Flat Creek Split | Approximately 50 feet upstream of Frontage Road | None | +5043 | City of Reno, Unincorporated Areas of Washoe County.
| Approximately 130 feet downstream of the Flat Creek confluence | None | +5052
North Evans Creek | Approximately 160 feet downstream of the Evans Creek confluence | None | +4900 | Unincorporated Areas of Washoe County.
| Approximately 0.74 mile upstream of the Evans Creek confluence | None | +5094
Short Creek | Approximately 1,500 feet downstream of U.S. Route 395 | None | +5039 | City of Reno, Unincorporated Areas of Washoe County.
| Approximately 0.61 mile upstream of Frontage Road | None | +5153
West Copperfield Creek | Approximately 1,000 feet downstream of Frontage Road | None | +5060 | City of Reno, Unincorporated Areas of Washoe County.
| Approximately 1.01 miles upstream of Frontage Road | None | +5259
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Reno
Maps are available for inspection at the City Hall Annex, 450 Sinclair Street, Reno, NV 89501.
Unincorporated Areas of Washoe County
Maps are available for inspection at the Washoe County Administration Building, 1001 East 9th Street, Reno, NV 89512.

(Catalog of Federal Domestic Assistance No. 97.022, “Flood Insurance.”)

Dated: October 28, 2011.
David L. Miller,
Associate Administrator, Federal Insurance and Mitigation Administration, Department of Homeland Security, Federal Emergency Management Agency.

[FR Doc. 2011-29203 Filed 11-10-11; 8:45 am]

BILLING CODE 9110-12-P